DEPARTMENT OF HOMELAND SECURITY

Coast Guard

33 CFR Part 165

[Docket No. USCG-2024-0473]

Safety Zone; Kemah Fireworks; Sector Houston-Galveston Captain of the Port

AGENCY: Coast Guard, DHS.

ACTION: Notification of enforcement of regulation.

SUMMARY: The Coast Guard will enforce safety zone regulations for the Kemah Board Walk Summer Season Fireworks Display every Friday night in June and July 2024, and Thursday, July 4, 2024, to provide for the safety of life on navigable waterways during the events. Our regulation for marine events within the Eighth Coast Guard District identifies the regulated area for the events in Clear Lake, TX. During the enforcement periods, the operator of any vessel in the regulated area must comply with directions from the Captain of the Port or designated representative.

DATES: The regulation in 33 CFR 165.801, Table 3, line 3, will be enforced from sunset until midnight every Friday in June and July 2024, and Thursday, July 4, 2024.

FOR FURTHER INFORMATION CONTACT: If you have questions about this notification of enforcement, call or email LTJG Jack Brunswick, Sector Houston/Galveston Waterways Management Division, U.S. Coast Guard; telephone 713-398-5823, email houstonwwm@uscg.mil.

SUPPLEMENTARY INFORMATION: The Coast Guard will enforce the safety zone in 33 CFR 165.801, Table 3, line 3, for the Kemah Board Walk Summer Season Fireworks Display from sunset until midnight each Friday in June and July 2024, and on Thursday, July 4, 2024. This action is being taken to provide for the safety of life on navigable waterways during this weekly event. Our regulation for marine events within the Eighth Coast Guard District specifies the location of the regulated area for the Kemah Board Walk Summer Season Fireworks which encompasses portions of the Clear Creek Channel centered around the firework barges and boardwalk. During the enforcement periods, as reflected in § 165.801(a) through (c), entry into this zone is prohibited unless authorized by the Captain of the Port or a designated representative. All persons and vessels shall comply with the instructions of the Captain of the Port or designated representative. Designated representatives include commissioned, warrant, and petty officers of the U.S. Coast Guard.

Dated: June 4, 2024.
Keith M. Donohue,
CAPT, U.S. Coast Guard, Captain of the Port, Sector Houston-Galveston.

[FR Doc. 2024-13411 Filed 6-18-24; 8:45 am]

BILLING CODE 9110-04-P